DEPARTMENT OF HEALTH AND HUMAN SERVICES

Centers for Disease Control and Prevention

World Trade Center Health Program Scientific/Technical Advisory Committee (WTCHP STAC or Advisory Committee), National Institute for Occupational Safety and Health (NIOSH)

In accordance with section 10(a)(2) of the Federal Advisory Committee Act (Pub. L. 92-463), the Centers for Disease Control and Prevention (CDC) announces the following meeting of the aforementioned committee:

Time and Date: 1 p.m.-5 p.m., March 28, 2012.

Place: This meeting is available via telephone and Web Conference. Audio will be available by telephone and visuals will be available by Web Conference. The USA toll-free, dial-in number is 1-800-593-0693. To be connected to the meeting, you will need to provide the following participant code to the operator: 4447238. To obtain further instructions on how to access the meeting online through Web Conference, see the instructions at the Committee's Web site: http://www.cdc.gov/NIOSH/topics/wtc/stac/meetings/.

Public Comment Times and Date: 1:10 p.m.-1:55 p.m., March 28, 2012.

Please note that the public comment period ends at the time indicated above or following the last call for comments, whichever is earlier. Members of the public who want to comment must sign up by providing their name by mail, facsimile, email, or telephone, as given below. Each commenter will be provided up to five minutes for comment. A limited number of time slots are available and will be assigned on a first come-first served basis. Written comments will also be accepted from those unable to attend the public session.

Status: Open to the public, limited only by the number of telephone lines. The conference line will accommodate up to 300 callers; therefore it is suggested that those interested in calling in to listen to the committee meeting share a line when possible.

Background: The Advisory Committee was established by Public Law 111-347 (The James Zadroga 9/11 Health and Compensation Act of 2010, Title XXXIII of the Public Health Service Act), enacted on January 2, 2011 and codified at 42 U.S.C. 300mm-300mm-61.

Purpose: The purpose of the Advisory Committee is to review scientific and medical evidence and to make recommendations to the World Trade Center (WTC) Program Administrator regarding additional WTC Health Program eligibility criteria and potential additions to the list of covered WTC-related health conditions. Title XXXIII of the Public Health Service Act established within the Department of Health and Human Services (HHS), the World Trade Center (WTC) Health Program, to be administered by the WTC Program Administrator. The WTC Health Program provides: (1) Medical monitoring and treatment benefits to eligible emergency responders and recovery and cleanup workers (including those who are Federal employees) who responded to the September 11, 2001, terrorist attacks, and (2) initial health evaluation, monitoring, and treatment benefits to residents and other building occupants and area workers in New York City, who were directly impacted and adversely affected by such attacks (“survivors”). Certain specific activities of the WTC Program Administrator are reserved to the Secretary, HHS, to delegate at her discretion; other WTC Program Administrator duties not explicitly reserved to the Secretary, HHS, are assigned to the Director, NIOSH. The administration of the Advisory Committee established under Section 300mm-1(a) is left to the Director of NIOSH in his role as WTC Program Administrator. CDC and NIOSH provide funding, staffing, and administrative support services for the Advisory Committee. The charter was issued on May 12, 2011, and will expire on May 12, 2013.

Matters To Be Discussed: The agenda for the Advisory Committee meeting includes the petition to add cancer, or types of cancer, to the list of covered WTC-related health conditions. The agenda is subject to change as priorities dictate. In the event an individual cannot attend, written comments may be submitted. The comments should be limited to two pages and submitted to the contact person below by March 23, 2012. Efforts will be made to provide the two-page written comments received by the deadline below to the committee members before the meeting. Comments in excess of two pages will be made publicly available at the NIOSH docket (http://www.cdc.gov/niosh/docket/archive/docket248.html).

Public Comment Sign-up and Submissions to the Docket: To sign up to provide public comments or to submit comments to the docket, send information to the NIOSH Docket Office by one of the following means:

Mail: NIOSH Docket Office, Robert A. Taft Laboratories, MS-C-34, 4676 Columbia Parkway, Cincinnati, Ohio 45226.

Facsimile: (513) 533-8285.

Email: nioshdocket@cdc.gov.

Telephone: (513) 533-8611.

Submissions to the docket should reference docket #248.

Policy on Redaction of Committee Meeting Transcripts (Public Comment): Transcripts will be prepared and posted to NIOSH Docket 248 within 60 days after the meeting. If a person making a comment gives his or her name, no attempt will be made to redact that name. NIOSH will take reasonable steps to ensure that individuals making public comments are aware of the fact that their comments (including their name, if provided) will appear in a transcript of the meeting posted on a public Web site. Such reasonable steps include a statement read at the start of the meeting stating that transcripts will be posted and names of speakers will not be redacted. If individuals in making a statement reveal personal information (e.g., medical information) about themselves, that information will not usually be redacted. The CDC Freedom of Information Act coordinator will, however, review such revelations in accordance with the Freedom of Information Act and if deemed appropriate, will redact such information. Disclosures of information concerning third party medical information will be redacted.

Contact Person for More Information: Paul J. Middendorf, Ph.D., Designated Federal Officer, NIOSH, CDC, 4676 Columbia Parkway Mail Stop R-45, Cincinnati, Ohio 45226, telephone 1 (888) 982-4748; email: wtc-stac@cdc.gov.

The Director, Management Analysis and Services Office, has been delegated the authority to sign Federal Register Notices pertaining to announcements of meetings and other committee management activities, for both the Centers for Disease Control and Prevention and the Agency for Toxic Substances and Disease Registry.

Dated: March 21, 2012.
Elaine L. Baker,
Director, Management Analysis and Services Office, Centers for Disease Control and Prevention.

[FR Doc. 2012-5624 Filed 3-7-12; 8:45 am]

BILLING CODE 4163-18-P